DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with December anniversary dates. In accordance with Commerce's regulations, we are initiating those administrative reviews.

DATES: Applicable February 8, 2024.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with December anniversary dates.

All deadlines for the submission of various types of information, certifications, or comments or actions by Commerce discussed below refer to the number of calendar days from the applicable starting time.

Respondent Selection

In the event that Commerce limits the number of respondents for individual examination for administrative reviews initiated pursuant to requests made for the orders identified below, Commerce intends to select respondents based on U.S. Customs and Border Protection (CBP) data for U.S. imports during the period of review (POR). We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews:

In accordance with 19 CFR 351.221(c)(1)(i), we are initiating administrative reviews of the following AD and CVD orders and findings. We intend to issue the final results of these reviews not later than December 31, 2024.

| Period to be reviewed
AD Proceedings
FRANCE: Strontium Chromate,⁴ A-427-830 | 11/1/22-10/31/23
Société Nouvelle des Couleurs Zinciques
INDIA: Carbazole Violet Pigments 23, A-533-838 | 12/1/22-11/30/23
Gharda Chemicals, Ltd.
Meghmani Pigments
Navpad Pigments Pvt. Ltd.
Stainless Steel Flanges from India, A-533-877 | 10/1/22-9/30/23
CD Industries (Prop. Kisaan Engineering Works Pvt. Ltd.) ⁵
JAPAN: Non-Oriented Electrical Steel, A-588-872 | 12/1/22-11/30/23
Nippon Steel Corporation
OMAN: Circular Welded Carbon-Quality Steel Pipe, A-523-812
Al Jazeera Steel Products Co. SAOG ⁶ | 12/1/21-11/30/22
REPUBLIC OF KOREA:
Certain Superabsorbent Polymers, A-580-914 | 6/7/22-11/30/23
LG Chem, Ltd.
Forged Steel Fittings, A-580-904 | 12/1/22-11/30/23
Samyoung Fitting Co., Ltd
Welded Line Pipe, A-580-876 | 12/1/22-11/30/23
Husteel Co., Ltd.
Hyundai Steel Company
NEXTEEL Co., Ltd.
SeAH Steel Corporation
THE PEOPLE'S REPUBLIC OF CHINA:
Cased Pencils, A-570-827 | 12/1/22-11/30/23
Beijing Apc International Air&Sea Freight
Beijing Kang Jie Kong Cargo Agent
Beijing Machinery Imp. & Exp.
Beijing Majestic Stationery Co.
Beijing Wallong Imp. & Exp. Cor
China First Pencil Co., Ltd.
Ningbo Homey Union Co., Ltd.
Orient Internatioanal Logistics
Orient International Enterprise Ltd.
Orient International Holding
Orient International Logistics Hol
Shandong Wah Yuen Stationery Co. Ltd.; Wah Yuen Stationery Co. Ltd.
Shanghai Everest International Logistics Co., Ltd.
Shanghai Foreigntrade Co., Ltd.
Sts International Corp.
Tianjin Tonghe Stationery Co. Ltd.
Wuxi Nice International Trading Co.
Crystalline Silicon Photovoltaic Cells, Whether Or Not Assembled Into Modules, A-570-979 | 12/1/22-11/30/23
Anji DaSol Solar Energy Science & Technology Co., Ltd
Boviet Solar Technology Co., Ltd.
BYD (Shangluo) Industrial Co., Ltd.
BYD H.K. Co., Ltd
Canadian Solar International Limited; Canadian Solar Manufacturing (Changshu) Inc.; Canadian Solar Manufacturing (Luoyang) Inc.; CSI Cells Co., Ltd.; CSI Solar Power (China) Inc.; CSI-GCL Solar Manufacturing (Yancheng) Co., Ltd.
Canadian Solar Manufacturing, Inc.
Changzhou Trina PV Ribbon Materials Co., Ltd.
Chint Energy (Haining) Co., Ltd.
Chint Solar (Hong Kong) Company Limited; Chint Solar (Jiuquan) Co., Ltd.; Chint Solar (Zhejiang) Co., Ltd.; Chint New Energy Technology (Haining) Co. Ltd.
CSI Modules (DaFeng) Co., Ltd.
CSI Solar Co., Ltd. (f.k.a. CSI Solar Power (China) Inc.)
CSI Solar Manufacturing (Fu Ning) Co., Ltd. (f.k.a. CSI-GCL Solar Manufacturing (YanCheng) Co., Ltd.)
CSI Solar Power Group Co., Ltd. (f.k.a. CSI Solar Power (China) Inc.)
De-Tech Trading Limited HK
Hengdian Group DMEGC Magnetics Co. Ltd.
Hongkong Hello Tech Energy Co., Ltd.
Jiawei Solarchina (Shenzhen) Co., Ltd.
Jiawei Solarchina Co., Ltd.
JingAo Solar Co., Ltd.
Jinko Solar (Malaysia) Sdn. Bhd.
Jinko Solar Import and Export Co., Ltd.; Jinko Solar Co., Ltd.; JinkoSolar Technology (Haining) Co., Ltd.; Yuhuan Jinko Solar Co., Ltd.; Zhejiang Jinko Solar Co., Ltd.; Jiangsu Jinko Tiansheng Solar Co., Ltd.; JinkoSolar (Chuzhou) Co., Ltd.; JinkoSolar (Yiwu) Co., Ltd.; JinkoSolar (Shangrao) Co., Ltd.
Jinko Solar International Limited
Jinko Solar Technology Sdn. Bhd.
Jinkosolar Middle East DMCC
Lightway Green New Energy Co., Ltd.
Longi (HK) Trading Ltd.
Longi Solar Technology Co. Ltd.
Luoyang Suntech Power Co., Ltd.
Maodi Solar Technology (Dongguan) Co., Ltd
New East Solar Energy Cambodia Co., Ltd.
Ningbo ETDZ Holdings, Ltd.
Ningbo Qixin Solar Electrical Appliance Co., Ltd.
Red Sun Energy Long An Company Limited
Renesola Jiangsu Ltd.
ReneSola Zhejiang Ltd.
Risen Energy Co. Ltd.; Risen Energy (Changzhou) Co., Ltd.; Risen (Wuhai) New Energy Co., Ltd.; Zhejiang Twinsel Electronic Technology Co., Ltd.; Risen (Luoyang) New Energy Co., Ltd.; Jiujiang Shengchao Xinye Technology Co., Ltd.; Jiujiang Shengzhao Xinye Trade Co., Ltd.; Ruichang Branch, Risen Energy (HongKong) Co., Ltd.; Risen Energy (YIWU) Co., Ltd.
Risen Solar Technology Sdn. Bhd
Shanghai BYD Co., Ltd.
Shanghai JA Solar Technology Co., Ltd.
Shanghai Nimble Co., Ltd.
Shenzhen Glory Industries Co., Ltd.
Shenzhen Sungold Solar Co., Ltd.
Shenzhen Topray Solar Co., Ltd.
Shenzhen Yingli New Energy Resources Co., Ltd.; Baoding Jiasheng Photovoltaic Technology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company
Sumec Hardware & Tools Co., Ltd
Suntech Power Co., Ltd
Taizhou BD Trade Co., Ltd.
tenKsolar (Shanghai) Co., Ltd.
Trina Solar (Singapore) Science and Technology Pte. Ltd.
Trina Solar Co., Ltd.; Trina Solar (Changzhou) Science and Technology Co., Ltd.; Yancheng Trina Guoneng Photovoltaic Technology Co., Ltd.; Changzhou Trina Solar Yabang Energy Co., Ltd.; Turpan Trina Solar Energy Co., Ltd.; Hubei Trina Solar Energy Co., Ltd.; Trina Solar (Hefei) Science and Technology Co., Ltd.; Changzhou Trina Hezhong Photoelectric Co., Ltd.; Changzhou Trina PV Ribbon Materials Co., Ltd.; Trina Solar (Changzhou) Science and Technology Co. Ltd.
Trina Solar Energy Development Company Limited
Trina Solar Energy Development PTE Ltd
Trina Solar Science & Technology (Thailand) Ltd.
Vina Cell Technology Company Limited
Vina Solar Technology Company Limited
Wuxi Suntech Power Co., Ltd.
Wuxi Tianran Photovoltaic Co., Ltd.
Xiamen Yiyusheng Solar Co., Ltd.
Yingli Green Energy International Trading Company Limited
Zhejiang Aiko Solar Energy Technology Co., Ltd.
Mattresses, A-570-092 | 12/1/22-11/30/23
Dockter China Limited
Dongguan Beijianing Household Products Co., Ltd. (a.k.a. Better Zs, Ltd.)
Dongguan Sinohome Limited
Foshan Chiland Furniture Co., Ltd
Foshan City Jinxingma Furniture Manufacture Co., Ltd
Foshan City Kewei Furniture Co., Ltd
Foshan City Shunde Haozuan Furniture Co., Ltd
Foshan Coir Mat Furniture Co., Ltd
Foshan EON Technology Industry Co., Ltd
Foshan Mengruo Household Furniture Co., Ltd
Foshan Qisheng Sponge Co., Ltd
Foshan Ruixin Non Woven Co., Ltd
Foshan Suilong Furniture Co. Ltd
Foshan Ziranbao Furniture Co., Ltd
Guangdong Diglant Furniture Industrial Co., Ltd
Healthcare Co., Ltd
Hong Kong Gesin Technology Limited
Huizhou Lemeijia Household Products Co., Ltd. (a.k.a. Better Zs, Ltd.)
Jiangsu Wellcare Household Articles Co., Ltd
Jiashan Nova Co., Ltd
Jiaxing Taien Springs Co., Ltd
Jiaxing Visco Foam Co., Ltd
Jinlongheng Furniture Co., Ltd
lnno Sports Co., Ltd
Luen Tai Global Limited
Luen Tai Group (China) Limited
Man Wah Furniture Manufacturing (Hui Zhou) Co., Ltd., Man Wah (MACAO Commercial Offshore), Ltd. and Man Wah (USA), Inc.
Ningbo Megafeat Bedding Co., Ltd
Ningbo Shuibishen Home Textile Technology Co., Ltd
Nisco Co., Ltd
Quanzhou Hengang Imp. & Exp. Co., Ltd
Quanzhou Hengang Industries Co., Ltd
Shanghai Glory Home Furnishings Co., Ltd
Shenzhen L&T Industrial Co., Ltd
Sinomax (Zhejiang) Polyurethane Technology Ltd
Sinomax Macao Commercial Offshore Limited
Healthcare Sleep Products Limited
Wings Developing Co., Limited
Xianghe Kaneman Furniture Co., Ltd
Xilinmen Furniture Co., Ltd
Zhejiang Glory Home Furnishings Co., Ltd
Zinus Inc.
Zinus Xiamen Inc.
Zinus Zhangzhou Inc.
Multilayered Wood Flooring, A-570-970 | 12/1/22-11/30/23
Anhui Longhua Bamboo Product Co., Ltd.
Benxi Flooring Factory (General Partnership)
Benxi Wood Company
Dalian Deerfu Wooden Product Co., Ltd.
Dalien Jaenmaken Wood Industry Co., Ltd.
Dalian Jiahong Wood Industry Co., Ltd.
Dalian Shengyu Science and Technology Development Co., Ltd.
Dalian Shumaike Floor Manufacturing Co., Ltd.; Dalian Penghong Floor Products Co., Ltd.
Dongtai Fuan Universal Dynamics, LLC
Dunhua City Dexin Wood Industry Co., Ltd.
Dunhua City Hongyuan Wood Industry Co., Ltd.
Dun Hua Sen Tai Wood Co., Ltd.
Dunhua Shengda Wood Industry Co., Ltd.
HaiLin LinJing Wooden Products, Co., Ltd.
Hunchun Xingjia Wooden Flooring Inc.
Huzhou Chenghang Wood Co., Ltd.
Huzhou Fulinmen Imp. & Exp. Co., Ltd.
Huzhou Sunergy World Trade Co., Ltd.
Jiangsu Guyu International Trading Co., Ltd.
Jiangsu Keri Wood Co., Ltd.
Jiangsu Mingle Flooring Co., Ltd.
Jiangsu Senmao Bamboo and Wood Industry Co., Ltd.
Jiangsu Simba Flooring Co., Ltd.
Jiangsu Yuhui International Trade Co., Ltd.
Jiashan HuiJiaLe Decoration Material Co., Ltd.
Jiashan On-Line Lumber Co., Ltd.
Jiaxing Hengtong Wood Co., Ltd.
Kahrs AB
Kingman Wood Industry Co., Ltd.
Lauzon Distinctive Hardwood Flooring, Inc.
Linyi Anying Wood Co., Ltd.
Linyi Youyou Wood Co., Ltd.
Metropolitan Hardwood Floors, Inc.
Muchsee Wood (Chuzhou) Co., Ltd.
Pinge Timber Manufacturing (Zhejiang) Co., Ltd.
Power Dekor Group Co., Ltd.
Sino-Maple (Jiangsu) Co., Ltd.
Suzhou Dongda Wood Co., Ltd.
Tongxiang Jisheng Import and Export Co., Ltd.
Yekalon Industry Inc.
Yihua Lifestyle Technology Co., Ltd.
Yingyi-Nature (Kunshan) Wood Industry Co., Ltd.
Zhejiang Dadongwu Greenhome Wood Co., Ltd.
Zhejiang Fuerjia Wooden Co., Ltd.
Zhejiang Longsen Lumbering Co., Ltd.
Zhejiang Shiyou Timber Co., Ltd.
Zhejiang Shuimojiangnan New Material Technology Co., Ltd.
Zhejiang Simite Wooden Co., Ltd.
Refillable Stainless Steel Kegs, A-570-093 | 12/1/22-11/30/23
Guangzhou Jingye Machinery Co., Ltd.
Guangzhou Ulix Industrial & Trading Co., Ltd
UNITED ARAB EMIRATES: Circular Welded Carbon-Quality Steel Pipe, A-520-807 | 12/1/22-11/30/23
Ajmal Steel Tubes & Pipes Ind. L.L.C.⁷
Conares Metal Supply Limited
KHK Scaffolding and Formwork LLC;
THL Tube and Pipe Industries LLC;
Universal Tube and Plastic Industries Ltd.⁸
CVD Proceedings
INDIA: Carbazole Violet Pigment 23, C-533-839 | 1/1/22-12/31/22
Gharda Chemicals, Ltd.
Meghmani Pigments
Navpad Pigments Pvt. Ltd.
THE PEOPLE'S REPUBLIC OF CHINA:
Crystalline Silicon Photovoltaic Cells, Whether Or Not Assembled Into Modules, C-570-980 | 1/1/22-12/31/22
Anji DaSol Solar Energy Science & Technology Co., Ltd.
Astronergy Co., Ltd.
Astronergy Solar
Baoding Jiasheng Photovoltaic Technology Co. Ltd.
Baoding Tianwei Yingli New Energy Resources Co., Ltd.
Beijing Tianneng Yingli New Energy Resources Co., Ltd.
Boviet Solar Technology Co., Ltd.
BYD (Shangluo) Industrial Co., Ltd.
BYD H.K. Co
Canadian Solar (USA) Inc.
Canadian Solar Inc.; Canadian Solar Manufacturing (Luoyang) Inc.; CSI Cells Co., Ltd.; CSI New Energy Holding Co., Ltd.; CSI Solar Manufacture Inc.; CSI Solar Power (China) Inc.; CSI Solar Technologies Inc.; CSI Solartronics (Changshu) Co., Ltd.; CANADIAN SOLAR MANUFACTURING (CHANGSHU) INC.; CSI-GCL Solar Manufacturing (Yancheng) Co., Ltd.; Changshu Tegu New Materials Technology Co., Ltd.; Changshu Tlian Co., Ltd.; Suzhou Sanysolar Materials Technology Co., Ltd.
Canadian Solar International Limited
Changzhou Trina Hezhong Photoelectric Co., Ltd
Changzhou Trina Solar Yabang Energy Co., Ltd.; Hubei Trina Solar Energy Co., Ltd.; Trina Solar (Changzhou) Science and Technology Co., Ltd.; Turpan Trina Solar Energy Co., Ltd.; Yancheng Trina Solar Energy Technology Co., Ltd.; Changzhou Trina Solar Energy Co., Ltd.; Trina Solar Co., Ltd.; Changzhou Trina PV Ribbon Materials Co., Ltd.
Chint New Energy Technology (Haining) Co., Ltd
Chint Solar (Hong Kong) Company Limited
Chint Solar (Jiuquan) Co., Ltd.
Chint Solar (Zhejiang) Co., Ltd.
CSI Modules (Dafeng) Co., Ltd.
CSI Solar Co., Ltd.
CSI Solar Manufacturing (Fu Ning) Co., Ltd.
DelSolar (Wujiang) Ltd.
DelSolar Co., Ltd.
De-Tech Trading Limited HK
Dongguan Sunworth Solar Energy Co., Ltd.
Donghai JA Solar Technology Co., Ltd.; Hebei Ningjin Songgong Semiconductor Co., Ltd.; Hebei Ningtong Electronic Materials Co., Ltd.; Hebei Yujing Electronic Science and Technology Co., Ltd.; Hefei JA Solar Technology Co., Ltd.; JA (Hefei) Renewable Energy Co., Ltd; Jing Hai Yang Semiconductor Material (Donghai) Co., Ltd.; JingAo Solar Co., Ltd.; JA SOLAR TECHNOLOGY YANGZHOU CO., LTD.; Shanghai JA Solar Technology Co., Ltd.; JA Solar Investment China Co., Ltd; Donghai JingAo Solar Energy Science and Technology Co., Ltd.; Solar Silicon Valley Electronic Science and Technology Co., Ltd.; Beijing Jinfeng Investment Co., Ltd.; Ningjin Songgong Electronic Materials Co., Ltd.; Jinglong Industry and Commerce Group Co., Ltd.; Ningjin County Jingyuan New Energy Investment Co., Ltd.; Hebei Jinglong New Materials Technology Group Co., Ltd.; Hebei Jinglong Sun Equipment Co. Ltd.; Hebei Jingle Optoelectronic Technology Co., Ltd.; Ningjin Jingxing Electronic Material Co., Ltd.; Ningjin Saimei Ganglong Electronic Materials Co., Ltd.; Hebei Ningtong Electronic Materials Co., Ltd.; JA Solar (Xingtai) Co., Ltd.; Xingtai Jinglong Electronic Material Co., Ltd.; Xingtai Jinglong PV Materials Co., Ltd.; JA PV Technology Co., Ltd.; Ningjin Jinglong PV Industry Investment Co., Ltd.; Baotou JA Solar Technology Co., Ltd.; Xingtai Jinglong New Energy Co., Ltd.; Ningjin County Jing Tai Fu Technology Co., Ltd.; JA Solar Technology Co., Ltd.; Jinglong Technology Holdings Co., Ltd.; Ningjin Guiguang Electronics Investment Co., Ltd.; Ningjin Longxin Investment Co., Ltd.; Beijing JA Solar PV Technology Co., Ltd.; Solar Silicon Peak Electronic Science and Technology Co., Ltd.; Jingwei Electronic Materials Co., Ltd.; Taicang Juren PV Material Co., Ltd.
Eoplly New Energy Technology Co., Ltd.
ERA Solar Co., Ltd.
ET Solar Energy Limited
Fuzhou Sunmodo New Energy Equipment Co., Ltd
GCL System Integration Technology Co. Ltd
Hainan Yingli New Energy Resources Co., Ltd.
Hangzhou Sunny Energy Science and Technology Co., Ltd.
Hengdian Group DMEGC Magnetics Co. Ltd.
Hengshui Yingli New Energy Resources Co., Ltd.
High Hope Zhongtian Corporation (High Hope Zhongtian)
Jiangsu High Hope Int'l Group
Jiangsu Jinko Tiansheng Solar Co., Ltd
Jiangsu Suhui Asset Management Co., Ltd.
Jinko Solar Import And Export Co., Ltd.; Jinko Solar Co., Ltd.; Zhejiang Jinko Solar Co., Ltd.; Jiangxi Jinko Photovoltaic Materials Co., Ltd.; Xinjiang Jinko Solar Co., Ltd.; JinkoSolar (Chuzhou) Co., Ltd.; JinkoSolar (Shangrao) Co., Ltd.; JinkoSolar (Sichuan) Co., Ltd.; JinkoSolar (Yiwu) Co., Ltd.; JinkoSolar Technology (Haining) Co., Ltd.; Ruixu Industrial Co., Ltd.; Yuhuan Jinko Solar Co., Ltd.; Jinko Solar (Shanghai) Management Co., Ltd.
Jinko Solar International Limited
Lightway Green New Energy Co., Ltd.; Light Way Green New Energy Co., Ltd.
Lixian Yingli New Energy Resources Co., Ltd.
Longi (HK) Trading Ltd.
LONGi Solar Technology Co., Ltd.; LERRI Solar Technology Co., Ltd.
Luoyang Suntech Power Co., Ltd.
Nice Sun PV Co., Ltd.
Ningbo ETDZ Holdings, Ltd.
ReneSola Jiangsu Ltd.
Renesola Zhejiang Ltd
Risen Energy Co., Ltd.; Risen (Wuhai) New Energy Co., Ltd.; Zhejiang Twinsel Electronic Technology Co., Ltd.; Risen (Luoyang) New Energy Co., Ltd.; Jiujiang Shengzhao Xinye Technology Co., Ltd.; Jiujiang Shengchao Xinye Trade Co., Ltd.; Ruichang Branch; Risen Energy (HongKong) Co., Ltd.; Risen Energy (Changzhou) Co., Ltd.; Risen Energy (Yiwu) Co., Ltd
Risen Solar Technology Sdn. Bhd.
Shanghai BYD Co., Ltd.
Shanghai Nimble Co., Ltd.
Shenzhen Sungold Solar Co., Ltd.
Shenzhen Topray Solar Co., Ltd
Shenzhen Yingli New Energy Resources Co., Ltd.
Sumec Hardware & Tools Co., Ltd.
Sunpreme Solar Technology (Jiaxing) Co., Ltd.
Suntech Power Co., Ltd.
Suntimes Technology Co., Limited
Systemes Versilis, Inc.
Taimax Technologies Inc
Taizhou BD Trade Co., Ltd
Talesun Energy
Talesun Solar
tenKsolar (Shanghai) Co., Ltd.
Tianjin Yingli New Energy Resources Co., Ltd.
Toenergy Technology Hangzhou Co., Ltd.
Trina Solar (Hefei) Science and Technology Co., Ltd.
Trina Solar Science & Technology (Thailand) Ltd
Wuxi Suntech Power Co., Ltd.
Wuxi Tianran Photovoltaic Co., Ltd.
Yingli Energy (China) Company Ltd.
Yingli Green Energy International Trading Company Limited
Zhejiang ERA Solar Technology Co., Ltd.
Zhejiang Sunflower Light Energy Science & Technology Limited Liability Company
Mobile Access Equipment and Subassemblies Thereof, C-570-140 | 1/1/22-12/31/22
Anhui Heli Industrial Vehicle Imp. & Exp. Co., Ltd.
Changzhou Hengxuan Logistics Co., Ltd.
Crown Equipment (Suzhou) Co., Ltd.
Deqing Liguan Machinery Trading Co. Ltd.
Dongguan Tinbo Packing Industrial Co., Ltd.
Everocean International Forwarding Co., Ltd.
Guangxi LiuGong Machinery Co., Ltd.
Guangzhou Eounice Machinery Co., Ltd.
Hangzhou Hengli Metal Processing Co., Ltd.
Hunan Sinoboom Intelligent Equipment Co., Ltd.
Jiaxing Xinfeng Zhong Wang Hydrualic Pressure Accessory Factory
Leader Technology Co., Ltd
Lingong Group Jinan Heavy Machinery Co., Ltd.⁹
Mantall Heavy Industry Co., Ltd.
Noblelift Intelligent Equipment Co., Ltd.
Oshkosh JLG (Tianjin) Equipment Technology Co., Ltd.
Sany Marine Heavy Industry Co., Ltd.
Shandong Tavol Machinery Co., Ltd.
Shanghai Full Trans Global Forwarding Co., Ltd.
Shanghai Inter Cooperation Co., Ltd.
Shanghai Xiangcheng Trading Co., Ltd.
Shanghai Xindun Trade Co., Ltd.
Shenzhen Shining Ocean International Logistics Co., Ltd.
Skyjack Inc
Terex (Changzhou) Machinery Co., Ltd.
Wuhai Huadong Heavy Industry Foundry Co., Ltd.
Xuzhou Construction Machinery Group Fire-Fighting Safety Equipment Co., Ltd.
Xuzhou Construction Machinery Group Imp. & Exp. Co., Ltd.
Yantai Carhart Manufacturing Co., Ltd.
Zhejiang Dingli Machinery Co., Ltd.¹⁰
Zhejiang Smile Tools Co., Ltd.
Zoomlion Heavy Industry Science & Technology Co., Ltd.
Multilayered Wood Flooring, C-570-971 | 1/1/22-12/31/22
Benxi Flooring Factory (General Partnership)
Benxi Wood Company
Dalian Jaenmaken Wood Industry Co., Ltd.
Dongtai Fuan Universal Dynamics, LLC
HaiLin LinJing Wooden Products Co., Ltd.
Hunchun Xingjia Wooden Flooring Inc.
Huzhou Fulinmen Imp. & Exp. Co., Ltd.
Jiangsu Mingle Flooring Co., Ltd.
Jiashan On-Line Lumber Co., Ltd.
Riverside Plywood Corporation; Baroque Timber Industries (Zhongshan) Co., Ltd.; Suzhou Times Flooring Co., Ltd.; Zhongshan Lianjia Flooring Co., Ltd. ¹¹
Suzhou Dongda Wood Co., Ltd.
Tongxiang Jisheng Import and Export Co., Ltd.
Zhejiang Longsen Lumbering Co., Ltd.
Zhejiang Shiyou Timber Co., Ltd.
Suspension Agreements
MEXICO:
Sugar, A-201-845 | 12/1/22-11/30/23
Sugar, C-201-846 | 1/1/23-12/31/23

⁴ In the notice of Initiation of Antidumping and Countervailing Duty Administrative Reviews, 88 FR 90168 (December 29, 2023) for AD and CVD orders with November anniversary dates, Commerce inadvertently omitted the AD order on Strontium Chromate from France. Commerce hereby initiates the administrative review of this order and intends to complete this review within the statutory timeframe relevant to orders with November anniversary months.

⁵ In the notice of Initiation of Antidumping and Countervailing Duty Administrative Reviews, 88 FR 88 FR 84784 (December 6, 2023) for AD and CVD orders with October anniversary dates, this company was incorrectly listed as “CD Industries; Kisaan Engineering Works Pvt. Ltd.”

⁶ Pursuant to 19 CFR 351.213(c), Commerce deferred initiation of the 2021-2022 administrative review for one year at the request of Al Jazeera Steel Products Co. SAOG. See Initiation of Antidumping and Countervailing Duty Administrative Reviews, 88 FR 7060, 7068 (February 2, 2023). Commerce did not receive any requests for review for the 2022-2023 review period.

⁷ Commerce previously determined that Ajmal Steel Tubes & Pipes Ind. L.L.C. and Ajmal Steel Tubes & Pipes Ind. L.L.C.-Branch-1 should be treated as a single entity. See Circular Welded Carbon-Quality Steel Pipe from the United Arab Emirates: Final Results of Antidumping Duty Administrative Review; 2019-2020, 87 FR 41111 (July 11, 2022) (CWP from UAE 2019-20). Therefore, we are initiating this administrative review with respect to both companies within the collapsed entity.

⁸ In prior reviews, Commerce treated these companies as a single entity. See, e.g., CWP from UAE 2019-20. Absent information to the contrary, we are treating these companies as a single entity for the purpose of this administrative review.

⁹ Commerce previously found Linyi Lingong Machinery Group Co., Ltd. to be a cross-owned affiliate of Lingong Group Jinan Heavy Machinery Co., Ltd. See Certain Mobile Access Equipment and Subassemblies Thereof from the People's Republic of China: Final Affirmative Countervailing Duty Determination, 86 FR 57809 (October 19, 2021) (MAE from China Final Determination). Accordingly, we are initiating this review with respect to Linyi Lingong Machinery Group Co., Ltd. and its cross-owned entity, Lingong Group Jinan Heavy Machinery Co., Ltd., listed in this notice.

¹⁰ Commerce previously found Zhejiang Green Power Machinery Co., Ltd. and Shengda Fenghe Automotive Equipment Co., Ltd. to be cross-owned affiliates of Zhejiang Dingli Machinery Co., Ltd. See MAE from China Final Determination. Accordingly, we are initiating this review with respect to Zhejiang Green Power Machinery Co., Ltd. and its cross-owned entities, Zhejiang Dingli Machinery Co., Ltd. and Shengda Fenghe Automotive Equipment Co., Ltd., listed in this notice.

¹¹ Commerce previously found Baroque Timber Industries (Zhongshan) Co., Ltd., Suzhou Times Flooring Co., Ltd., and Zhongshan Lianjia Flooring Co., Ltd. to be cross-owned affiliates of Riverside Plywood Corporation see e.g., Multilayered Wood Flooring from the People's Republic of China: Final Results of Countervailing Duty Administrative Review; 2020, 88 FR 34828 (May 31, 2023). Accordingly, we are initiating this review with respect to Riverside Plywood Corporation and its cross-owned entities listed in this notice.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether ADs have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹² available at https://www.govinfo.gov/content/pkg/FR-2013-07-17/pdf/2013-17045.pdf, prior to submitting factual information in this segment. Note that Commerce has amended certain of its requirements pertaining to the service of documents in 19 CFR 351.303(f).¹³

¹² See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹³ Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹⁴ Commerce intends to reject factual submissions in any proceeding segments if the submitting party does not comply with applicable certification requirements.

¹⁴ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁵ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁵ See 19 CFR 351.302.

These initiations and this notice are in accordance with section 751(a) of the Act (19 U.S.C. 1675(a)) and 19 CFR 351.221(c)(1)(i).

Dated: February 2, 2024.
James Maeder,
Deputy Assistant Secretary for Antidumping and Countervailing Duty Operations.

[FR Doc. 2024-02600 Filed 2-7-24; 8:45 am]

BILLING CODE 3510-DS-P